DEPARTMENT OF LABOR

Employment and Training Administration

[TA-W-56,002]

Taisho Electric Corporation of America; El Paso, TX; Dismissal of Application for Reconsideration

Pursuant to 29 CFR 90.18(C) an application for administrative reconsideration was filed with the Director of the Division of Trade Adjustment Assistance for workers at Taisho Electric Corporation of America, El Paso, Texas. The application contained no new substantial information which would bear importantly on the Department's determination. Therefore, dismissal of the application was issued.

TA-W-56,002; Taisho Electric Corporation of America, El Paso, Texas (January 14, 2005).

Signed at Washington, DC this 18th day of January 2005.
Timothy Sullivan,
Director, Division of Trade Adjustment Assistance.

[FR Doc. E5-274 Filed 1-25-05; 8:45 am]

BILLING CODE 4510-30-P